FEDERAL COMMUNICATIONS COMMISSION

47 CFR Parts 52 and 64

[CG Docket No. 03-123 and WC Docket No. 05-196; FCC 08-151]

Telecommunications Relay Services and Speech-to-Speech Services for Individuals With Hearing and Speech Disabilities; E911 Requirements for IP-Enabled Service Providers

AGENCY: Federal Communications Commission.

ACTION: Final rule.

SUMMARY: In this document, the Commission adopts a system for assigning users of Internet-based Telecommunications Relay Services (TRS), specifically Video Relay Service (VRS) and Internet Protocol (IP) Relay, ten-digit telephone numbers linked to the North American Numbering Plan (NANP). This numbering system will further the TRS functional equivalency mandate by ensuring that Internet-based TRS users can be reached by voice telephone users in the same way that voice telephone users are called. The measures the Commission adopts also are intended to ensure that emergency calls placed by Internet-based TRS users will be routed directly and automatically to the appropriate emergency services authorities by Internet-based TRS providers.

DATES: Effective August 18, 2008, except for 47 CFR 64.605 (a) and (b), and 64.611 (a), (b), (c) and (f), which contain information collection requirements subject to the Paperwork Reduction Act (PRA) of 1995, Public law 104-13, that have not been approved by the Office of Management and Budget (OMB). The Commission will publish a separate document in the Federal Register announcing the effective date of these requirements. Interested parties (including the general public, OMB, and other Federal agencies) that wish to submit written comments on the PRA information collection requirements must do so on or before September 16, 2008.

ADDRESSES: Interested parties may submit PRA comments identified by OMB Control Number 3060-1089, by any of the following methods:

• Federal eRulemaking Portal: http://www.regulations.gov. Follow the instructions for submitting comments.

• Federal Communications Commission's Web Site: http://www.fcc.gov/cgb/ecfs/. Follow the instructions for submitting comments.

• E-mail: Parties who choose to file by e-mail should submit their comments to PRA@fcc.gov. Please include CG Docket Number 03-123, WC Docket Number 05-196, and OMB Control Number 3060-1089 in the subject line of the message.

• Mail: Parties who choose to file by paper should submit their comments to Cathy Williams, Federal Communications Commission, Room 1-C823, 445 12th Street, SW., Washington, DC 20554.

FOR FURTHER INFORMATION CONTACT: Thomas Chandler, Consumer and Governmental Affairs Bureau, Disability Rights Office at (202) 418-1475 (voice), (202) 418-0597 (TTY), or e-mail Thomas.Chandler@fcc.gov. For additional information concerning the PRA information collection requirements contained in this document, contact Cathy Williams at (202) 418-2918, or e-mail Cathy.Williams@fcc.gov and/or PRA@fcc.gov.

SUPPLEMENTARY INFORMATION: This is a summary of the Commission's Telecommunications Relay Services and Speech-To-Speech Services For Individuals With Hearing and Speech Disabilities; E911 Requirements For IP-Enabled Services Providers, Report and Order, document FCC 08-151, adopted June 11, 2008, and released June 24, 2008, in CG Docket No. 03-123 and WC Docket No. 05-196. Simultaneously with the Report and Order, the Commission also issued a Further Notice and Proposed Rulemaking (FNPRM) in CG Docket No. 03-123 and WC Docket No. 05-196, seeking comment on additional issues relating to the assignment and administration of ten-digit telephone numbers for Internet-based TRS. The Report and Order addresses issues arising from the following items: (1) Telecommunications Relay Services and Speech-to-Speech Services for Individuals with Hearing and Speech Disabilities, Notice of Proposed Rulemaking (VRS/IP Relay 911 NPRM), CG Docket No. 03-123, document FCC 05-196, published at 71 FR 5221, February 1, 2006; (2) Telecommunications Relay Services and Speech-to-Speech Services for Individuals with Hearing and Speech Disabilities, Declaratory Ruling and Further Notice of Proposed Rulemaking (Interoperability Declaratory Ruling and FNPRM), CG Docket No. 03-123, document FCC 06-57, published at 71 FR 30818 and 71 FR 30848, May 31, 2006; (3) Telecommunications Relay Services and Speech-to-Speech Services for Individuals with Hearing and Speech Disabilities, Further Notice of Proposed Rulemaking (IP Relay/VRS Misuse FNPRM), CG Docket No. 03-123, document FCC 06-58, published at 71 FR 31131, June 1, 2006; (4) Telecommunications Relay Services and Speech-to-Speech Services for Individuals with Hearing and Speech Disabilities; E911 Requirements For IP-Enabled Service Providers, Report and Order (Interim Emergency Call Handling Order), CG Docket No. 03-123 and WC Docket No. 05-196, document FCC 08-78, published at 73 FR 21252, April 21, 2008; and (5) Consumer and Governmental Affairs Bureau Seeks to Refresh Record on Assigning Internet Protocol (IP)-Based Telecommunications Relay Service (TRS) Users Ten-Digit Telephone Numbers Linked to North American Numbering Plan (NANP) and Related Issues, Public Notice (Numbering PN), CG Docket No. 03-123, document DA 08-607, published at 73 FR 16304, March 27, 2008.

The full text of document FCC 08-151 and copies of any subsequently filed documents in this matter will be available for public inspection and copying during regular business hours at the FCC Reference Information Center, Portals II, 445 12th Street, SW., Room CY-A257, Washington, DC 20554. FCC 08-151 and copies of subsequently filed documents in this matter also may be purchased from the Commission's duplicating contractor at Portals II, 445 12th Street, SW., Room CY-B402, Washington, DC 20554. Customers may contact the Commission's duplicating contractor at its Web site www.bcpiweb.com or by calling 1-800-378-3160. To request materials in accessible formats for people with disabilities (Braille, large print, electronic files, audio format), send an e-mail to fcc504@fcc.gov or call the Consumer and Governmental Affairs Bureau at (202) 418-0530 (voice) or (202) 418-0432 (TTY). Document FCC 08-151 also can be downloaded in Word and Portable Document Format (PDF) at http://www.fcc.gov/cgb/dro/trs.html.

Paperwork Reduction Act of 1995 Analysis

Document FCC 08-151 contains new and modified information collection requirements subject to the PRA. It will be submitted to OMB for review under section 3507 of the PRA. OMB, the general public, and other Federal agencies are invited to comment on the modified information collection requirements contained in this proceeding. Public and agency comments are due September 16, 2008. In addition, the Commission notes pursuant to the Small Business Paperwork Relief Act of 2002, Public Law 107-198, see 44 U.S.C. 3506 (c)(4), that the Commission previously sought specific comment on how it may “further reduce the information collection burden for small business concerns with fewer than 25 employees.”

Synopsis

1. In the Report and Order, the Commission adopts a system for assigning users of Internet-based TRS, specifically VRS and IP Relay, ten-digit telephone numbers linked to the NANP. This numbering system will further the functional equivalency mandate by ensuring that Internet-based TRS users can be reached by voice telephone users in the same way that voice telephone users are called. The measures the Commission adopts also are intended to ensure that emergency calls placed by Internet-based TRS users will be routed directly and automatically to the appropriate emergency services authorities by Internet-based TRS providers. Consistent with the Interim Emergency Call Handling Order, the Commission requires that the ten-digit numbering plan adopted in the Report and Order be implemented no later than December 31, 2008. In the accompanying FNPRM, the Commission seeks comment on additional issues relating to the assignment and administration of ten-digit telephone numbers for Internet-based TRS.

2. Currently, VRS users do not have a reliable or consistent means by which others can identify or reach them. In contrast to the voice telephone network, Internet-based relay services are not linked to a uniform numbering scheme. Instead of a ten-digit telephone number, VRS users are typically assigned a “dynamic” IP address. As a consequence, it is more difficult to place a relay call to a VRS user, as compared to placing a call to a voice telephone user, because the calling party must ascertain the VRS user's current IP address each time he or she wishes to place a call to that individual.

3. The voice telephone system is predicated on the assignment of ten-digit numbers to consumers, and the ability of any telephone user to reach a consumer by dialing that person's particular number. Further, because location and other identifying information is attached to each number, consumers can dial 911 and reach emergency services that can automatically determine the caller's location to respond to the emergency. The same holds true for consumers of the PSTN-based TRS. Voice telephone users can call these consumers via TRS if they know the consumer's ten-digit telephone number, which they provide to the customer assistant (CA) when making the relay call. These TRS consumers can also contact emergency services by either dialing 911 directly or by calling a TRS provider; in either case, the caller's location information will automatically be passed to the emergency personnel. This is presently not the case, however, with respect to consumers using the Internet-based forms of TRS. Voice telephone users can call an Internet-based TRS user only if the caller knows the TRS user's current Internet address (or a proxy therefor), and the Internet-based TRS user cannot call emergency services and have location information automatically transmitted. The Commission concludes that it has the authority to adopt a system for assigning persons using Internet-based TRS ten-digit telephone numbers linked to the NANP pursuant to sections 225 and 251 of the Communications Act of 1934, as amended (the Act).

4. In the March 19, 2008, Interim Emergency Call Handling Order, the Commission announced its intention to adopt a ten-digit numbering plan for Internet-based TRS in a future Commission order. That same day, and to ensure that the record reflects new technical, economic, and administrative developments related to the implementation of a 10-digit numbering system, the Commission's Consumer and Governmental Affairs Bureau (Bureau) issued the Numbering PN, inviting interested parties to refresh the record on issues relating to the assignment and administration of ten-digit numbering for Internet-based TRS users. The Bureau also sought to refresh the record on other issues related to numbering, including number resource conservation, and the application of the Commission's anti-“slamming” rules, customer proprietary network information (CPNI) rules, and local number portability (LNP) rules to Internet-based TRS providers.

5. In the Interim Emergency Call Handling Order, the Commission required Internet-based TRS providers to “accept and handle emergency calls” and to access, either directly or via a third party, a commercially available database that will allow the provider to determine an appropriate PSAP, designated statewide default answering point, or appropriate local emergency authority that corresponds to the caller's location, and to relay the call to that entity. The Commission also adopted several interim emergency call handling requirements for Internet-based relay services, finding that these measures are needed to facilitate access to emergency services for consumers of Internet-based relay services, pending the adoption of a longer term solution. The Commission also announced its intention to adopt in a forthcoming Commission order a Registered Location process, similar to that adopted by the Commission in the interconnected voice over Internet protocol (VoIP) context.

6. Adoption of a Uniform Ten-Digit Telephone Numbering System for Internet-based TRS. The Commission finds that utilization of NANP numbers will best achieve the goal of making Internet-based TRS functionally equivalent to traditional circuit switched telephony, and will provide Internet-based TRS users a reliable and consistent means by which they may receive calls from voice telephone users. The Commission therefore requires Internet-based TRS providers to assign Internet-based TRS users NANP telephone numbers. The Commission further requires Internet-based TRS providers to stop issuing “proxy” or “alias” numbers no later than December 31, 2008.

7. Full connectivity between Internet-based TRS and the PSTN cannot be achieved simply by assigning telephone numbers to Internet-based TRS users. The networks upon which the Internet portion of Internet-based TRS operates require IP addresses rather than NANP telephone numbers for routing. In order to allow calls to be appropriately routed and completed, a mechanism must be created for mapping the telephone numbers assigned to Internet-based TRS users to the IP addresses (or other appropriate endpoint identifiers) used by Internet-based TRS.

8. Number Acquisition and Assignment. The Commission finds that it is most expedient and consistent with the Commission's numbering policies for Internet-based TRS users to obtain NANP telephone numbers directly from their Internet-based TRS providers. Internet-based TRS providers may obtain such numbers either: (1) Directly from the North American Numbering Plan Administration (NANPA) or the Pooling Administrator (PA) if they are certificated as carriers and otherwise meet the criteria for obtaining numbers; or (2) through commercial arrangements with carriers (i.e., numbering partners). These are precisely the methods of obtaining numbers that are available to providers of interconnected VoIP service and their customers. Finally, Internet-based TRS users and providers of Internet-based TRS will enjoy the full benefits of LNP.

9. The Commission finds that the best process for Internet-based TRS users to obtain telephone numbers is directly from their Internet-based TRS providers. Such a process is functionally equivalent to the process by which subscribers to interconnected VoIP, Commercial Mobile Radio Service, and local exchange service obtain numbers. Indeed, even proponents of the neutral third-party process note that some consumers view their Internet-based TRS provider as if it were a telephone company and therefore expect that they should obtain numbering resources directly from the Internet-based TRS provider.

10. In light of the Commission's decision to have Internet-based TRS users obtain numbers directly from Internet-based TRS providers, the Commission must determine how Internet-based TRS providers are to obtain access to numbering resources. The record reflects three methods: (1) Directly from the NANPA or the PA, (2) from a neutral third party administrator established for the purpose, or (3) from numbering partners through commercial agreements.

11. Only carriers, absent a Commission waiver, may obtain numbering resources directly from the NANPA or the PA. Section 52.15(g)(2) of the Commission's rules limits access to the NANP numbering resources to those applicants that are (1) “authorized to provide service in the area for which the numbering resources are being requested” and (2) “[are] or will be capable of providing service within sixty (60) days of the numbering resources activation date.” 47 CFR 52.15(g)(2). Allowing only carriers to have direct access to NANP numbering resources helps to ensure that the numbers are used efficiently and to avoid number exhaust and also provides some control over who may access numbering databases and personnel. Thus, to the extent that a provider of Internet-based TRS is licensed or certificated as a carrier under the Act and relevant state law (as appropriate), it may obtain numbering resources directly from the NANPA or PA.

12. The Commission recognizes, however, that many, if not all, providers of Internet-based TRS will not be licensed or certificated as carriers. Internet-based TRS providers that have not obtained a license or certificate of public convenience and necessity from the relevant states or otherwise are not eligible to receive numbers directly from the NANPA or PA may make numbers available to their customers through commercial arrangements with carriers (i.e., numbering partners). This method has proven successful in the context of interconnected VoIP, is consistent with the Commission's numbering rules, and is cost effective. TRS providers can easily obtain numbers from certified carriers the same way interconnected VoIP providers obtain numbers today.

13. In any case, Internet-based TRS providers and their numbering partners shall be entitled to obtain and use numbering resources only to the extent they comply with the requirements of the Report and Order. The Commission also reminds all parties that telephone numbers are a public resource, not private property. They may not be bought or sold. They may, however, be provided as part of a package of services that includes, for example, interconnection, connectivity, or 911 service.

14. In light of record support for, and the demonstrated success of interconnected VoIP providers in obtaining NANP telephone numbers from carriers, the Commission declines to appoint a neutral third party to obtain numbers from the NANPA or from numbering partners for distribution to providers of Internet-based TRS or Internet-based TRS users. Allowing a third-party administrator direct access to numbering resources is not consistent with general Commission policy—as discussed above, absent a waiver, the Commission's rules allow only carriers direct access to NANP numbering resources. Further, the record reflects that a third-party administrator would add another layer of personnel, process, and cost in the number procurement process.

15. The Commission also finds that Internet-based TRS providers and their numbering partners are subject to the same LNP obligations, with the sole exception of contributing to meet shared numbering administration costs and LNP costs, as the Commission set forth in Telephone Number Requirements for IP Enabled Services Providers; Local Number Portability Porting Interval and Validation Requirements; IP-Enabled Services; Telephone Number Portability; CTIA Petitions for Declaratory Ruling on Wireline-Wireless Porting Issues; Final Regulatory Flexibility Analysis; Number Resource Optimization, Report and Order, Declaratory Ruling, Order on Remand, and Notice of Proposed Rulemaking, WC Docket Nos. 07-243, 07-244, 04-36; CC Docket Nos. 95-116, 99-200, document FCC 07-188, published at 73 FR 9463, February 21, 2008 and 73 FR 9507, February 21, 2008. The Commission expands the scope of the Commission's LNP rules to include Internet-based TRS providers, so that the full array of obligations relating to the porting of numbers from one service provider to another service provider are applicable when an Internet-based TRS user wishes to port a number, regardless of whether the service providers involved are carriers, interconnected VoIP providers, or Internet-based TRS providers. The Commission notes that the Internet-based TRS provider has an affirmative legal obligation to take all steps necessary to initiate or allow a port-in or port-out itself or through its numbering partner on behalf of the Internet-based TRS user, subject to a valid port request, without unreasonable delay or unreasonable procedures that have the effect of delaying or denying porting of the number. Moreover, Internet-based TRS providers and their numbering partners may not enter into agreements that would prohibit or unreasonably delay an Internet-based TRS user from porting between Internet-based TRS providers and will be subject to Commission enforcement action for any such violation of the Act and the Commission's LNP rules.

16. To the extent that an Internet-based TRS provider is licensed or certificated as a carrier, that carrier is eligible to obtain numbering resources directly from the NANPA, subject to all relevant rules and procedures applicable to carriers, including LNP requirements. Under these circumstances, the Internet-based TRS provider would not have a numbering partner, and would thus be solely responsible for compliance with the Commission rules at issue here.

17. Section 251(e)(2) of the Act provides that “[t]he cost of establishing telecommunications numbering administration arrangements and number portability shall be borne by all telecommunications carriers on a competitively neutral basis as determined by the Commission.” 47 U.S.C. 251(e)(2). Carriers and interconnected VoIP providers that benefit from LNP generally are required to contribute to meet shared LNP costs. The Commission declines to extend to Internet-based TRS providers the obligation to contribute to meet shared LNP costs at this time. Unlike other providers that benefit from LNP, providers of Internet-based TRS are not permitted to recover their costs from their end users. Rather, Internet-based TRS providers are compensated by the Interstate TRS Fund for the costs of providing relay service. Money in the Interstate TRS Fund is collected from various providers of telecommunications and related services—many of which already contribute to meet shared LNP costs. It makes little sense to require Internet-based TRS providers to contribute to defray shared LNP costs covered by the same providers that ultimately provide the money Internet-based TRS providers will use to make such contributions.

18. The Commission finds that Internet-based TRS users should be assigned geographically appropriate NANP numbers, as happens today for hearing users. The Commission notes that there may be unusual and limited circumstances in which an Internet-based TRS provider may not be able to obtain a geographically appropriate number for a particular end user. While the Commission does not expect this to be a common occurrence, Internet-based TRS providers may temporarily employ suitable workarounds in such circumstances, such as the assignment of a number which is reasonably close to the Internet-based TRS user's rate center, or the use of remote call forwarding. Such workarounds may be employed only until a geographically appropriate number becomes available, unless the end user chooses to retain the originally assigned number.

19. “Default Provider” Registration. Every provider of Internet-based TRS is required to provide Internet-based TRS users with the capability to register with that Internet-based TRS provider as a “default provider” and provide or port for that user a NANP telephone number. Such registration is required: (1) To allow the Internet-based TRS provider to take steps to associate the Internet-based TRS user's telephone number with their IP address to allow for the routing and completion of calls; (2) to facilitate the provision of 911 service; and (3) to facilitate the implementation of appropriate network security measures.

20. The Internet-based TRS provider with which an Internet-based TRS user has registered will serve as the Internet-based TRS user's “default provider.” For all Internet-based TRS users, all inbound and outbound calls will, by default, be routed through the default provider. Such a default provider arrangement is functionally equivalent to services provided on the PSTN and via interconnected VoIP. For example, voice telephone users that subscribe to a particular carrier for long distance service will make all of their long distance calls on that carrier's network unless they choose to “dial around” to an alternative long distance provider. Likewise, calls made to and from an Internet-based TRS user will be handled by the default provider, unless the calling Internet-based TRS user specifically “dials around” in order to utilize an alternative provider. Individuals calling an Internet-based TRS user likewise will have the option of “dialing around” an Internet-based TRS user's default provider in order to utilize the services of a different TRS provider. An Internet-based TRS user may select and register with a new default provider at any time and have his or her number ported to that provider.

21. As of December 31, 2008, Internet-based TRS providers must, prior to the initiation of service for an individual that has not previously utilized Internet-based TRS, register that new Internet-based TRS user, provide that user with a ten-digit NANP telephone number, obtain that user's Registered Location, and fulfill all other requirements set forth in the Report and Order that pertain to Registered Internet-based TRS Users. The Commission's numbering plan must be implemented such that ten-digit numbers are available to Internet-based TRS users no later than December 31, 2008. The Commission recognizes, however, that every existing Internet-based TRS user will not be able to register with a default provider on that day. The Commission therefore recognizes that the Commission must adopt a registration period for the existing base of Internet-based TRS users to migrate to the new numbering plan.

22. Centralized Numbering Directory Mechanism. The Commission finds that the best centralized numbering directory mechanism shall: (1) Be provisioned with Uniform Resource Identifiers (URIs) that contain, inter alia, end-user IP addresses for VRS and domain names and user names for IP Relay; (2) be provisioned by Internet-based TRS providers on behalf of their Registered Internet-based TRS Users; and (3) limit central database access to Internet-based TRS providers. The Commission further finds that industry-standard DNS and ENUM technology is well-suited for implementing and querying the database.

23. The primary purpose of the central database will be to map each Internet-based TRS user's NANP telephone number to his or her end device. This can be accomplished by: (1) Provisioning the database with each Internet-based TRS user's IP address (either alone or as part of a URI); or (2) provisioning the database with URIs that contain domain names and user names—such as an instant-message service and screen-name—that can be subsequently resolved to reach the user's end device.

24. The Commission finds that the central database should be provisioned with URIs containing IP addresses for VRS users. Provisioning URIs containing IP addresses to the central database will result in a simplified, and more efficient, call setup process by eliminating the need to query an Internet-based TRS user's default provider before completing every call. Further, the use of a domain name in the URI normally would create a dependency on the global Domain Name System and thereby introduce those additional security vulnerability issues associated with the global DNS. Finally, eliminating the terminating party's default provider from the call flow also improves Internet-based TRS user privacy by limiting the number of Internet-based TRS providers that have access to call signaling data, and limits any ability the terminating party's default provider might have to block or otherwise degrade calls initiated through a competitor.

25. The Commission requires Internet-based TRS providers to provision routing information directly to the central database. Default providers must obtain current routing information, including URIs containing IP addresses or domain names and user names, from their Registered Internet-based TRS Users, provision such information to the central database, and maintain it in their internal databases and in the central database. Conversely, Internet-based TRS providers (and, to the extent necessary, their numbering partners) must take such steps as are necessary to cease acquiring routing information from any Internet-based TRS user that ports his or her number to another provider or otherwise selects a new default provider. In addition, Internet-based TRS providers and their numbering partners also must communicate among themselves as necessary to ensure that only the default provider provisions routing information to the central database, and that providers other than the default provider are aware that they must query the central database in order to obtain accurate routing information for a particular user of Internet-based TRS. In order to ensure that the telephone numbers of Internet-based TRS users are fully portable, that their devices are interoperable, and their privacy is protected, if an Internet-based TRS provider cannot provide service to a particular user in the manner described in the Report and Order, the Internet-based TRS provider must not provide service to that user without seeking prior approval of the Commission.

26. The Commission concludes that only Internet-based TRS providers will be authorized to query the central database for the purpose of obtaining information from the database to complete calls.

27. The Commission further concludes that building, maintaining, and operating the central database will best be done by a neutral third party administrator under contract with the Commission and compensated through the Interstate TRS Fund. The neutral database administrator must be selected, and must construct the database, work with industry to populate the database, test the functionality of the database, and be prepared to support ten-digit numbers for Internet-based TRS users by December 31, 2008.

28. In the interest of time, the Commission is not referring this issue to the North American Numbering Council (NANC), as the Commission has for past numbering contracts. Rather, the Commission delegates authority to the Office of the Managing Director (Managing Director), with the assistance of the Wireline Competition Bureau, the Consumer and Governmental Affairs Bureau, and the Office of General Counsel, to select the neutral administrator based on a competitive bidding process.

29. The Commission concludes that: (1) The neutral administrator must be a non-governmental entity that is impartial and is not an affiliate of any Internet-based TRS provider; (2) the neutral administrator and any affiliate may not issue a majority of its debt to, nor derive a majority of its revenues from, any Internet-based TRS provider; and (3) notwithstanding the neutrality criteria set forth in (1) and (2) above, the neutral administrator may be determined to be or not to be subject to undue influence by parties with a vested interest in the outcome of TRS-related numbering administration and activities. Any subcontractor that performs functions of the neutral administrator must also meet these neutrality criteria.

30. Emergency Calling Handling Requirement. The Commission stated in the Interim Emergency Call Handling Order the Commission's belief that the use of a Registered Location process, similar to that adopted in the VoIP 911 Order, constitutes an additional critical component of an E911 solution for Internet-based TRS providers, so that a CA may promptly determine an appropriate PSAP, designated statewide default answering point, or appropriate local emergency authority to call to respond to the emergency. Accordingly, as the Commission required of all interconnected VoIP providers, the Commission requires that all Internet-based TRS providers obtain or have access to consumer location information for the purposes of emergency calling requirements. The Commission also requires all Internet-based TRS providers to obtain from their Registered Internet-based TRS users their physical location, and the Commission modifies the call handling requirements adopted in the Interim Emergency Call Handling Order to reflect the adoption of a Registered Location requirement.

31. Registered Location Requirement. The Commission recognizes that it currently is not always technologically feasible for providers of Internet-based TRS to automatically determine the location of their end users without end users' active cooperation. The Commission therefore requires each provider of Internet-based TRS to obtain location information from each of their Registered Internet-based TRS users. Specifically, providers of Internet-based TRS must obtain from each of their Registered Internet-based TRS users, prior to the initiation of service, the physical location at which the service will first be utilized. The most recent location provided to an Internet-based TRS provider by a Registered Internet-based TRS user is the “Registered Location.” Internet-based TRS providers can comply with this requirement directly or by utilizing the services of a third party. Furthermore, providers of Internet-based TRS that can be utilized from more than one physical location must provide their Registered Internet-based TRS users one or more methods of updating information regarding the Registered Internet-based TRS user's physical location. Although the Commission declines to specify any particular method, the Commission requires that any method utilized allow a Registered Internet-based TRS user to update his or her Registered Location at will and in a timely manner, including at least one option that requires use only of the CPE necessary to access the Internet-based TRS. Further, Internet-based TRS providers may not charge users to update their Registered Location, as this would discourage Registered Internet-based TRS users from doing so and therefore undermine this solution.

32. The Interim Emergency Call Handling Order required Internet-based TRS providers to “request, at the beginning of every emergency call, the caller's name and location information.” Internet-based TRS providers no longer are required to request such information at the beginning of an emergency call if the Internet-based TRS provider has, or has access to, a Registered Location for the caller.

33. Routing 911 Calls. The Interim Emergency Call Handling Order permitted Internet-based TRS providers to route 911 calls to PSAPs' ten-digit administrative lines pending adoption of a Registered Location requirement. As of December 31, 2008, the Commission requires that an Internet-based TRS provider must transmit all 911 and E911 calls, as well as a call back number, the name of the relay provider, the CA's identification number, and the caller's Registered Location for each call, to the PSAP, designated statewide default answering point, or appropriate local emergency authority that serves the caller's Registered Location and that has been designated for telecommunications carriers under § 64.3001 of the Commission's rules. These calls must be routed through the use of ANI and, if necessary, pseudo-ANI, via the dedicated Wireline E911 Network, and the Registered Location must be available from or through the ALI Database.

34. 911 Service Providers. The Commission continues to expect that Internet-based TRS providers will be able to use much of the same infrastructure and technology that is already in place for the delivery of 911 and E911 calls by interconnected VoIP service providers. The Commission recognizes that, because Internet-based TRS providers will be able to choose from among multiple providers of 911 related services, in instances in which an Internet-based TRS user places an emergency call through an Internet-based TRS provider other than the Internet-based TRS user's default provider, the alternative provider may not have access to the Internet-based TRS user's Registered Location information. The Commission notes, however, that providers must prioritize and answer emergency calls in accordance with the requirements set forth in the Interim Emergency Call Handling Order. Further, because of the importance of emergency call handling, providers must ensure adequate staffing of emergency call handling processes so that CAs are not required to disconnect non-emergency calls in order to process emergency calls. In light of these requirements and the nature of emergency calls, the Commission expects that most, if not all, emergency calls will be dialed via an Internet-based TRS user's default provider and thus will have associated Registered Locations. Further, in light of the importance of access to emergency services for relay users, the Commission asks in the accompanying FNPRM whether the Commission should take other steps in order to ensure that emergency calls are handled in an appropriate and expeditious manner.

35. Consumer Outreach and Education. Because substantial consumer outreach efforts will be needed to ensure a seamless transition to a ten-digit numbering system and to ensure the successful implementation of the Registered Location requirement adopted herein, the Commission requires each Internet-based TRS provider, upon the effective date of the Report and Order, to include an additional advisory on its Web site and in any promotional materials addressing the new requirements adopted herein. At a minimum, the advisory must address the following issues: (1) The process by which Internet-based TRS users may obtain ten-digit telephone numbers, including a brief summary of the numbering assignment and administration processes adopted herein; (2) the portability of ten-digit telephone numbers assigned to Internet-based TRS users; (3) the process by which persons using Internet-based forms of TRS may submit, update, and confirm receipt by the provider of their Registered Location information; and (4) an explanation emphasizing the importance of maintaining accurate, up-to-date Registered Location information with the user's default provider in the event that the individual places an emergency call via an Internet-based relay service. The Commission also requires Internet-based TRS providers to obtain and keep a record of affirmative acknowledgement by every user assigned a ten-digit telephone number of having received and understood the advisory described above.

36. The Commission also directs the Consumer and Governmental Affairs Bureau to issue a consumer advisory to TRS users summarizing the requirements and obligations set forth in the Report and Order, and to disseminate the advisory through the Consumer Information Registry.

37. IP Relay Fraud. Although Internet-based relay services have proven to be enormously popular with consumers, these services (and particularly IP Relay) may be more susceptible to misuse than other forms of TRS. For example, the Commission has received complaints and anecdotal evidence that persons without a hearing or speech disability have misused IP Relay to defraud merchants by making purchases over the telephone using stolen, fake, or otherwise invalid credit cards. See IP Relay/VRS FNPRM. This misuse is enabled both by Internet-based TRS providers' current difficulty in determining with certainty the geographic location of their users and by IP Relay providers' inability to determine the identity of any particular user (because an IP Relay CA only receives the text of a user's message). In other words, IP Relay affords the user a degree of anonymity that is generally not possible with PSTN-based relay calls. This misuse harms both the merchants who are victimized and legitimate IP Relay users who may no longer be able to convince merchants to take their calls or accept their orders for merchandise. In addition, the misuse of IP Relay by hearing callers poses an added burden on the Fund—a burden ultimately borne by all consumers. The Commission believes that registration of Internet-based TRS users with a default provider and provision of a Registered Location should reduce the misuse of IP Relay by persons seeking anonymity to make fraudulent credit card purchases and engage in other wrongdoing.

38. Cost Recovery Issues. Section 225 of the Communications Act creates a cost recovery regime whereby TRS providers are compensated for their reasonable costs of providing service in compliance with the TRS regulations. The Commission has explained that “for purposes of determining the `reasonable' costs that may be recovered * * *, the costs must relate to the provision of service in compliance with the applicable non-waived [TRS] mandatory minimum standards.” Therefore, because the Commission now requires Internet-based TRS providers to offer ten-digit numbering and E911 services, providers of these services are entitled to recover their reasonable costs of complying with the new requirements as set forth in the Report and Order. The Commission will require that such costs be submitted every three months, beginning three months after the release date of the Report and Order. Costs submitted must be for those costs actually incurred during the prior three-month period. The TRS Fund Administrator, and the Commission, shall review submitted costs and may request supporting documentation to verify the expenses claimed, and may also disallow unreasonable costs. The Commission will permit such filings until such time as new compensation rates are adopted that include the costs of complying with the requirements adopted herein, or the Commission otherwise re-addresses this issue.

39. Submitted costs may include those additional costs incurred by a provider that directly relate to: (1) Ensuring that database information is properly and timely updated and maintained; (2) processing and transmitting calls made to ten-digit numbers assigned pursuant to the Report and Order; (3) routing emergency calls to an appropriate PSAP; (4) other implementation related tasks directly related to facilitating ten-digit numbering and emergency call handling; and (5) consumer outreach and education related to the requirements and services adopted in the Report and Order. These costs do not include, however, costs relating to assigning numbers to the Internet-based TRS users nor costs relating to number portability. Because voice telephone users generally bear these costs, the Commission seeks comment in the FNPRM on whether Internet-based TRS users or the Fund should bear these costs. The Commission also reminds Internet-based TRS providers, however, that these costs may not include costs related to facilitating non-TRS peer-to-peer (or video-to-video) calls.

40. The Commission authorizes the TRS Fund Administrator to pay the reasonable costs of providing necessary services consistent with the Report and Order directly to the database administrator rather than funnel the funding indirectly through providers. Finally, the Commission notes that to the extent the costs necessitated by the requirements adopted in the Report and Order may require an adjustment to the Fund size, and therefore the carrier contribution factor, the Commission expects the TRS Fund Administrator to monitor payments made from the Fund in connection with the Report and Order and to recommend to the Commission, if and when appropriate, that the Fund size be adjusted.

41. Timeline and Benchmarks. By the Report and Order, the Commission has met its commitment to complete a final order on a ten-digit numbering plan in the second quarter of this year. Recognizing that Internet-based TRS providers and the neutral third-party administrator discussed above will require time to implement the Report and Order, the Commission requires, consistent with the Interim Emergency Call Handling Order, that the ten-digit numbering plan be implemented such that ten-digit numbers are available to end users no later than December 31, 2008. In order to ensure this deadline is met, the Commission authorizes the Managing Director to include in the neutral third-party administration contract such benchmarks as are necessary to meet the implementation deadline.

42. As a further means of ensuring that the Commission's implementation deadline is met, and recognizing that detailed implementation issues must be finalized prior to the implementation deadline, the Commission hereby directs the Managing Director to include in the neutral third-party administration contract the requirement to refer all implementation disputes that it is unable to resolve in a reasonable time to the Chief, Wireline Competition Bureau. The Commission further authorizes the Managing Director, if so requested by the Chief, Wireline Competition Bureau, to retain a technical advisor that will provide such assistance as the Chief, Wireline Competition Bureau, may require to resolve such disputes.

Final Regulatory Flexibility Certification

43. The Regulatory Flexibility Act of 1980, as amended (RFA), see 5 U.S.C. 603, requires that a regulatory flexibility analysis be prepared for rulemaking proceedings, unless the agency certifies that “the rule will not, if promulgated, have a significant economic impact on a substantial number of small entities.” 5 U.S.C. 605(b). The RFA generally defines “small entity” as having the same meaning as the terms “small business,” “small organization,” and “small governmental jurisdiction.” 5 U.S.C. 601(6). In addition, the term “small business” has the same meaning as the term “small business concern” under the Small Business Act. 5 U.S.C. 601(3). A “small business concern” is one which: (1) Is independently owned and operated; (2) is not dominant in its field of operation; and (3) satisfies any additional criteria established by the Small Business Administration (SBA). 15 U.S.C. 632.

44. In the Report and Order, the Commission adopts a system for assigning ten-digit telephone numbers linked to the NANP to persons using Internet-based TRS. The Report and Order will further the functional equivalency of TRS mandated in Title IV of the Americans with Disabilities Act. The Commission finds that utilization of NANP numbers will achieve the goal of making Internet-based TRS functionally equivalent to traditional circuit switched telephony, and will provide Internet-based TRS users a reliable and consistent means by which they may receive calls from voice telephone users in the same way that voice telephone users are called.

45. Under the Report and Order, each Internet-based TRS provider must provide Internet-based TRS users with the capability to register with that provider as a “default” provider. Upon a user's registration, each provider must either facilitate the user's valid number portability request or, if the user does not wish to port a number, assign that user a geographically appropriate NANP telephone number. Each provider also must route and deliver all of its Registered Internet-based TRS users' inbound and outbound calls unless the user chooses to place a call with, or receives a call from, an alternate provider. Further, the Report and Order requires Internet-based TRS providers to obtain from each of their Registered Internet-based TRS users, prior to the initiation of service, the physical location at which the service will first be utilized. In addition, providers of Internet-based TRS that can be utilized from more than one physical location must provide the registered user one or more methods of updating the user's physical location. As noted in the Report and Order, the numbering system adopted will enable individuals with hearing and speech disabilities using Internet-based TRS access to emergency services.

46. Specifically, the Report and Order is intended to ensure that emergency calls placed by Internet-based TRS users will be routed directly and automatically to the appropriate emergency services authorities by Internet-based TRS providers. The Commission also requires each Internet-based TRS provider to include an advisory on its Web site and in any promotional materials addressing the new requirements adopted in the Report and Order. Providers must obtain and keep a record of affirmative acknowledgement by every user assigned a number of having received and understood this advisory. The Commission also states its belief that instituting a numbering system and a Registered Location requirement, as provided in the Report and Order, will reduce the misuse of IP Relay by persons seeking to use this service for fraudulent purposes. Finally, the Report and Order concludes that providers will be compensated from the Interstate TRS Fund for their reasonable actual costs of complying with the new rules adopted therein.

47. To the extent that all Internet-based TRS providers, including small entities, will be eligible to receive compensation from the Interstate TRS Fund for their reasonable costs of complying with these numbering and Registered Location requirements, the Commission finds that these requirements will not have a significant economic impact on a substantial number of small entities. Further, the Commission believes that allowing providers until December 31, 2008, to implement the ten-digit numbering plan adopted in the Report and Order is a reasonable timeframe for both large and small providers. The Commission also authorizes the Managing Director to include in the third-party administrator contract the requirement to refer all implementation disputes that it is unable to resolve in a reasonable time to the Chief of the Wireline Competition Bureau for resolution, which will ease burdens on providers, including small entities. For all of these reasons, the Commission concludes that these measures will not have a significant economic impact on a substantial number of small entities, because each small business will receive financial compensation for reasonable costs incurred rather than absorb an uncompensated financial loss or hardship.

48. With regard to whether a substantial number of small entities may be affected by the requirements adopted in the Report and Order, the Commission notes that, of the 11 providers affected by the Report and Order, only three meet the definition of a small entity. The SBA has developed a small business size standard for Wired Telecommunications Carriers, which consists of all such firms having 1,500 or fewer employees. 13 CFR 121.201, NAICS code 517110. Currently, eleven providers receive compensation from the Interstate TRS Fund for providing VRS, IP Relay and IP CTS: AT&T Corp.; CSDVRS; CAC; GoAmerica; Hamilton Relay, Inc.; Hands On; Healinc; Nordia Inc.; Snap Telecommunications, Inc; Sorenson; and Sprint. Because only three of the providers affected by the Report and Order are deemed to be small entities under the SBA's small business size standard, the Commission concludes that the number of small entities affected by the Commission's decision in the Report and Order is not substantial. Moreover, given that all affected providers, including the three that are deemed to be small entities under the SBA's standard, will be entitled to receive prompt reimbursement for their reasonable costs of compliance, the Commission concludes that the Report and Order will not have a significant economic impact on these small entities.

49. Therefore, for all of the reasons stated above, the Commission certifies that the requirements of the Report and Order will not have a significant economic impact on a substantial number of small entities.

Congressional Review Act

The Commission will send a copy of the Report and Order in a report to be sent to Congress and the Government Accountability Office pursuant to the Congressional Review Act, see 5 U.S.C. 801(a)(1)(A).

Ordering Clauses

Pursuant to sections 1, 2, 4(i), 4(j), 225, 251, and 303(r) of the Communications Act of 1934, as amended, 47 U.S.C. 151, 152, 154(i), 154(j), 225, 251, and 303(r), the Report and Order is adopted.

Pursuant to sections 1, 2, 4(i), 4(j), 225, 251, and 303(r) of the Communications Act of 1934, as amended, 47 U.S.C. 151, 152, 154(i), 154(j), 225, 251, and 303(r), parts 52 and 64 of the Commission's rules, 47 CFR parts 52 and 64, are amended.

The Report and Order shall be effective August 18, 2008 and all requirements set forth in the Report and Order must be implemented by December 31, 2008, except for the information collections, which require approval by OMB under the PRA and which shall become effective after the Commission publishes a notice in the Federal Register announcing such approval and the relevant effective date(s).

The Commission's Consumer and Governmental Affairs Bureau, Reference Information Center, SHALL SEND a copy of the Report and Order, including the Final Regulatory Flexibility Certification, to the Chief Counsel for Advocacy of the Small Business Administration.

List of Subjects in 47 CFR Parts 52 and 64

Individuals with disabilities, Reporting and recordkeeping requirements, Telecommunications.

Federal Communications Commission.
William F. Caton,
Deputy Secretary.

Rule Changes

For the reasons discussed in the preamble, the Federal Communications Commission amends 47 CFR parts 52 and 64 to read as follows:

PART 52—NUMBERING

1. The authority citation for part 52 continues to read as follows:

Authority: Secs. 1, 2, 4, 5, 48 Stat. 1066, as amended; 47 U.S.C. 151, 152, 154 and 155 unless otherwise noted. Interpret or apply secs. 3, 4, 201-05, 207-09, 218, 225-27, 251-52, 271 and 332, 48 Stat. 1070, as amended, 1077; 47 U.S.C. 153, 154, 201-05, 207-09, 218, 225-27, 251-52, 271 and 332 unless otherwise noted.

2. Section 52.21 is amended by:

a. Redesignating paragraphs (o) through (s) as paragraphs (q) through (u);

b. Redesignating paragraphs (i) through (n) as paragraphs (j) through (o); and

c. Adding new paragraphs (i), (p), and (v).

The additions read as follows:

§ 52.21 Definitions.

* * * * *

(i) The term IP Relay provider means an entity that provides IP Relay as defined by 47 CFR 64.601.

* * * * *

(p) The term Registered Internet-based TRS User has the meaning set forth in 47 CFR 64.601.

* * * * *

(v) The term VRS provider means an entity that provides VRS as defined by 47 CFR 64.601.

* * * * *

3. Section 52.34 is revised to read as follows:

§ 52.34 Obligations regarding local number porting to and from interconnected VoIP or Internet-based TRS providers.

(a) An interconnected VoIP or VRS or IP Relay provider must facilitate an end-user customer's or a Registered Internet-based TRS User's valid number portability request, as it is defined in this subpart, either to or from a telecommunications carrier or an interconnected VoIP or VRS or IP Relay provider. “Facilitate” is defined as the interconnected VoIP or VRS or IP Relay provider's affirmative legal obligation to take all steps necessary to initiate or allow a port-in or port-out itself or through the telecommunications carriers, if any, that it relies on to obtain numbering resources, subject to a valid port request, without unreasonable delay or unreasonable procedures that have the effect of delaying or denying porting of the NANP-based telephone number.

(b) An interconnected VoIP or VRS or IP Relay provider may not enter into any agreement that would prohibit an end-user customer or a Registered Internet-based TRS User from porting between interconnected VoIP or VRS or IP Relay providers, or to or from a telecommunications carrier.

PART 64—MISCELLANEOUS RULES RELATING TO COMMON CARRIERS

4. The authority citation for part 64 continues to read as follows:

Authority: 47 U.S.C. 154, 254(k); secs. 403(b)(2)(B), (c), Public Law 104-104, 110 Stat. 56. Interpret or apply 47 U.S.C. 201, 218, 222, 225, 226, 228, and 254(k) unless otherwise noted.

5. Section 64.601 is amended by:

a. Redesignating paragraphs (a)(18) and (a)(19) as (a)(26) and (a)(27);

b. Redesignating paragraphs (a)(13) through (a)(17) as paragraphs (a)(19) through (a)(23);

c. Removing paragraph (a)(12);

d. Redesignating paragraph (a)(11) as paragraph (a)(16);

e. Redesignating paragraph (a)(10) as paragraph (a)(14);

f. Redesignating paragraphs (a)(3) through (a)(9) as paragraphs (a)(4) through (a)(10); and

g. Revising paragraph (a) introductory text and adding new paragraphs (a)(3), (a)(11) through (a)(13), (a)(15), (a)(17), (a)(18), (a)(24), and (a)(25).

The revisions and additions read as follows:

§ 64.601 Definitions and provisions of general applicability.

* * * * *

(a) For purposes of this subpart, the terms Public Safety Answering Point (PSAP), statewide default answering point, and appropriate local emergency authority are defined in 47 CFR 64.3000; the terms pseudo-ANI and Wireline E911 Network are defined in 47 CFR 9.3; the term affiliate is defined in 47 CFR 52.12(a)(1)(i), and the terms majority and debt are defined in 47 CFR 52.12(a)(1)(ii).

* * * * *

(3) ANI. For 911 systems, the Automatic Number Identification (ANI) identifies the calling party and may be used as the callback number.

* * * * *

(11) Internet-based TRS. A telecommunications relay service (TRS) in which an individual with a hearing or a speech disability connects to a TRS communications assistant using an Internet Protocol-enabled device via the Internet, rather than the public switched telephone network. Internet-based TRS does not include the use of a text telephone (TTY) over an interconnected voice over Internet Protocol service.

(12) Internet Protocol Captioned Telephone Service (IP CTS). A telecommunications relay service that permits an individual who can speak but who has difficulty hearing over the telephone to use a telephone and an Internet Protocol-enabled device via the Internet to simultaneously listen to the other party and read captions of what the other party is saying. With IP CTS, the connection carrying the captions between the relay service provider and the relay service user is via the Internet, rather than the public switched telephone network.

(13) Internet Protocol Relay Service (IP Relay). A telecommunications relay service that permits an individual with a hearing or a speech disability to communicate in text using an Internet Protocol-enabled device via the Internet, rather than using a text telephone (TTY) and the public switched telephone network.

* * * * *

(15) Numbering Partner. Any entity with which an Internet-based TRS provider has entered into a commercial arrangement to obtain North American Numbering Plan telephone numbers.

* * * * *

(17) Registered Location. The most recent information obtained by a VRS or IP Relay provider that identifies the physical location of an end user.

(18) Registered Internet-based TRS User. An individual that has registered with a VRS or IP Relay provider as described in § 64.611 of this chapter.

* * * * *

(24) TRS Numbering Administrator. The neutral administrator of the TRS Numbering Directory selected based on a competitive bidding process.

(25) TRS Numbering Directory. The database administered by the TRS Numbering Administrator, the purpose of which is to map each Registered Internet-based TRS User's NANP telephone number to his or her end device.

* * * * *

6. Section 64.605 is revised to read as follows:

§ 64.605 Emergency Calling Requirements.

(a) Additional Emergency Calling Requirements Applicable to Internet-based TRS Providers.

(1) As of December 31, 2008, the requirements of paragraphs (a)(2)(i) and (a)(2)(iv) of this section shall not apply to providers of VRS and IP Relay.

(2) Each provider of Internet-based TRS shall:

(i) Accept and handle emergency calls and access, either directly or via a third party, a commercially available database that will allow the provider to determine an appropriate PSAP, designated statewide default answering point, or appropriate local emergency authority that corresponds to the caller's location, and to relay the call to that entity;

(ii) Implement a system that ensures that the provider answers an incoming emergency call before other non-emergency calls (i.e., prioritize emergency calls and move them to the top of the queue);

(iii) Request, at the beginning of each emergency call, the caller's name and location information, unless the Internet-based TRS provider already has, or has access to, a Registered Location for the caller;

(iv) Deliver to the PSAP, designated statewide default answering point, or appropriate local emergency authority, at the outset of the outbound leg of an emergency call, at a minimum, the name of the relay user and location of the emergency, as well as the name of the relay provider, the CA's callback number, and the CA's identification number, thereby enabling the PSAP, designated statewide default answering point, or appropriate local emergency authority to re-establish contact with the CA in the event the call is disconnected;

(v) In the event one or both legs of an emergency call are disconnected (i.e., either the call between the TRS user and the CA, or the outbound voice telephone call between the CA and the PSAP, designated statewide default answering point, or appropriate local emergency authority), immediately re-establish contact with the TRS user and/or the appropriate PSAP, designated statewide default answering point, or appropriate local emergency authority and resume handling the call; and

(vi) Ensure that information obtained as a result of this section is limited to that needed to facilitate 911 services, is made available only to emergency call handlers and emergency response or law enforcement personnel, and is used for the sole purpose of ascertaining a user's location in an emergency situation or for other emergency or law enforcement purposes.

(b) E911 Service for VRS and IP Relay.

(1) Scope. The following requirements are only applicable to providers of VRS or IP Relay. Further, the following requirements apply only to 911 calls placed by users whose Registered Location is in a geographic area served by a Wireline E911 Network.

(2) E911 Service. As of December 31, 2008:

(i) VRS or IP Relay providers must, as a condition of providing service to a user, provide that user with E911 service as described in this section;

(ii) VRS or IP Relay providers must transmit all 911 calls, as well as ANI, the caller's Registered Location, the name of the VRS or IP Relay provider, and the CA's identification number for each call, to the PSAP, designated statewide default answering point, or appropriate local emergency authority that serves the caller's Registered Location and that has been designated for telecommunications carriers pursuant to § 64.3001 of this chapter, provided that “all 911 calls” is defined as “any communication initiated by an VRS or IP Relay user dialing 911”;

(iii) All 911 calls must be routed through the use of ANI and, if necessary, pseudo-ANI, via the dedicated Wireline E911 Network; and

(iv) The Registered Location, the name of the VRS or IP Relay provider, and the CA's identification number must be available to the appropriate PSAP, designated statewide default answering point, or appropriate local emergency authority from or through the appropriate automatic location information (ALI) database.

(3) Service Level Obligation. Notwithstanding the provisions in paragraph (b)(2) of this section, if a PSAP, designated statewide default answering point, or appropriate local emergency authority is not capable of receiving and processing either ANI or location information, a VRS or IP Relay provider need not provide such ANI or location information; however, nothing in this paragraph affects the obligation under paragraph (c) of this section of a VRS or IP Relay provider to transmit via the Wireline E911 Network all 911 calls to the PSAP, designated statewide default answering point, or appropriate local emergency authority that serves the caller's Registered Location and that has been designated for telecommunications carriers pursuant to § 64.3001 of this chapter.

(4) Registered Location Requirement. As of December 31, 2008, VRS and IP Relay providers must:

(i) Obtain from each Registered Internet-based TRS User, prior to the initiation of service, the physical location at which the service will first be utilized; and

(ii) If the VRS or IP Relay is capable of being used from more than one location, provide their Registered Internet-based TRS Users one or more methods of updating their Registered Location, including at least one option that requires use only of the CPE necessary to access the VRS or IP Relay. Any method utilized must allow a Registered Internet-based TRS User to update the Registered Location at will and in a timely manner.

7. Section 64.611 is added to read as follows:

§ 64.611 Internet-Based TRS Registration.

(a) Default Provider Registration. Every provider of VRS or IP Relay must, no later than December 31, 2008, provide users with the capability to register with that VRS or IP Relay provider as a “default provider.” Upon a user's registration, the VRS or IP Relay provider shall:

(1) Either:

(i) Facilitate the user's valid number portability request as set forth in 47 CFR 52.34; or, if the user does not wish to port a number,

(ii) Assign that user a geographically appropriate North American Numbering Plan telephone number; and

(2) Route and deliver all of that user's inbound and outbound calls unless the user chooses to place a call with, or receives a call from, an alternate provider.

(b) Mandatory Registration of New Users. As of December 31, 2008, VRS and IP Relay providers must, prior to the initiation of service for an individual that has not previously utilized VRS or IP Relay, register that new user as described in paragraph (a) of this section.

(c) Obligations of Default Providers and Former Default Providers.

(1) Default providers must:

(i) Obtain current routing information, including IP addresses or domain names and user names, from their Registered Internet-based TRS Users;

(ii) Provision such information to the TRS Numbering Directory; and

(iii) Maintain such information in their internal databases and in the TRS Numbering Directory.

(2) Internet-based TRS providers (and, to the extent necessary, their Numbering Partners) must:

(i) Take such steps as are necessary to cease acquiring routing information from any VRS or IP Relay user that ports his or her number to another VRS or IP Relay provider or otherwise selects a new default provider;

(ii) Communicate among themselves as necessary to ensure that:

(A) Only the default provider provisions routing information to the central database; and

(B) VRS and IP Relay providers other than the default provider are aware that they must query the TRS Numbering Directory in order to obtain accurate routing information for a particular user of VRS or IP Relay.

(d) Proxy Numbers. After December 31, 2008, a VRS or IP Relay provider:

(1) May not assign or issue a proxy or alias for a NANP telephone number to any user; and

(2) Must cease to use any proxy or alias for a NANP telephone number assigned or issued to any Registered Internet-based TRS User.

(e) CPE.

(1) Every VRS or IP Relay provider must ensure that all CPE they have issued, leased, or otherwise provided to VRS or IP Relay users delivers routing information or other information only to the user's default provider, except as is necessary to complete or receive “dial around” calls on a case-by-case basis.

(2) All CPE issued, leased, or otherwise provided to VRS or IP Relay users by Internet-based TRS providers must be capable of facilitating the requirements of this section.

(f) User Notification. Every VRS or IP Relay provider must include an advisory on its website and in any promotional materials addressing numbering or E911 services for VRS or IP Relay.

(1) At a minimum, the advisory must address the following issues:

(i) The process by which VRS or IP Relay users may obtain ten-digit telephone numbers, including a brief summary of the numbering assignment and administration processes adopted herein;

(ii) The portability of ten-digit telephone numbers assigned to VRS or IP Relay users;

(iii) The process by which persons using VRS or IP Relay may submit, update, and confirm receipt by the provider of their Registered Location information; and

(iv) An explanation emphasizing the importance of maintaining accurate, up-to-date Registered Location information with the user's default provider in the event that the individual places an emergency call via an Internet-based relay service.

(2) VRS and IP Relay providers must obtain and keep a record of affirmative acknowledgment by every Registered Internet-based TRS User of having received and understood the advisory described in this subsection.

8. Section 64.613 is added to read as follows:

§ 64.613 Numbering Directory for Internet-based TRS Users.

(a) TRS Numbering Directory.

(1) The TRS Numbering Directory shall contain records mapping the NANP telephone number of each Registered Internet-based TRS User to a unique Uniform Resource Identifier (URI).

(2) For each record associated with a VRS user, the URI shall contain the user's Internet Protocol (IP) address. For each record associated with an IP Relay user, the URI shall contain the user's user name and domain name that can be subsequently resolved to reach the user.

(3) Only the TRS Numbering Administrator and Internet-based TRS providers may access the TRS Numbering Directory.

(b) Administration—(1) Neutrality. (i) The TRS Numbering Administrator shall be a non-governmental entity that is impartial and not an affiliate of any Internet-based TRS provider.

(ii) Neither the TRS Numbering Administrator nor any affiliate may issue a majority of its debt to, nor derive a majority of its revenues from, any Internet-based TRS provider.

(iii) Nor may the TRS Numbering Administrator nor any affiliate be unduly influenced, as determined by the North American Numbering Council, by parties with a vested interest in the outcome of TRS-related numbering administration and activities.

(iv) Any subcontractor that performs any function of the TRS Numbering Administrator must also meet these neutrality criteria.

(2) Terms of Administration. The TRS Numbering Administrator shall administer the TRS Numbering Directory pursuant to the terms of its contract.

(3) Compensation. The TRS Fund, as defined by 47 CFR 64.604(a)(5)(iii), may compensate the TRS Numbering Administrator for the reasonable costs of administration pursuant to the terms of its contract.

[FR Doc. E8-16260 Filed 7-17-08; 8:45 am]

BILLING CODE 6712-01-P